DEPARTMENT OF HOMELAND SECURITY

Coast Guard

[USCG-2001-9267]

Shipboard Technology Evaluation Program; Programmatic Environmental Assessment

AGENCY: Coast Guard, DHS.

ACTION: Notice of availability and request for public comments.

SUMMARY: The Coast Guard announces the availability of the draft Programmatic Environmental Assessment (PEA) that evaluates the potential environmental impacts resulting from the implementation of the Shipboard Technology Evaluation Program (STEP). The purpose of STEP is to facilitate the development of effective ballast water treatment technologies to protect U.S. waters against the unintentional introduction of nonindigenous species via ballast water discharges. STEP will create more options for vessels seeking alternatives to ballast water exchange as they manage their ballast water.

DATES: Comments and related materials must reach the Docket Management Facility on or before July 26, 2004.

ADDRESSES: You may submit comments identified by Coast Guard docket number USCG-2001-9267 to the Docket management facility at the U.S. Department of Transportation. To avoid duplication, please use only one of the following methods:

(1) By mail to the Docket Management Facility (USCG-2001-9267), U.S. Department of Transportation, Room PL-401, 400 Seventh Street, SW., Washington, DC 20593-0001.

(2) By delivery to Room PL-401 on the Plaza Level of the Nassif Building, 400 Seventh Street, SW., Washington DC between 9 a.m. and 5 p.m., Monday through Friday, except Federal holidays. The telephone number is (202) 366-9329.

(3) By fax to the Docket Management Facility at (202) 493-2251.

(4) Electronically through the Web site for the Docket Management System at http://dms.dot.gov.

The Docket Management Facility maintains the public docket for this notice. Comments will become part of this docket and will be available for inspection or copying in Room PL-401, located on the Plaza Level of the Nassif Building at the above address between 9 a.m. and 5 p.m., Monday through Friday, except for Federal holidays. You may also view this docket, including this notice and comments, on the Internet at http://dms.dot.gov.

FOR FURTHER INFORMATION CONTACT: If you have questions on this program, or would like a copy of the PEA, call Mr. Bivan Patnaik, Project Manager at (202) 267-1744 or e-mail: bpatnaik@comdt.uscg.mil. If you have questions on viewing or submitting material to the docket, call Andrea M. Jenkins, Program Manager, Docket Operations, Department of Transportation, telephone 202-366-0271.

SUPPLEMENTARY INFORMATION:

Request for Comments

We encourage you to submit comments and related materials on this notice. Persons submitting comments should include their names and addresses, this notice docket number (USCG-2001-9267), and the reasons for each comment. You may submit your comments and materials by mail, hand delivery, fax, or electronic means to the Docket Management Facility at the ADDRESSES. If you choose to submit them by mail or hand delivery, submit them in an unbound format, no longer than 8 1/2 by 11 inches, and suitable for copying and electronic filing. If you submit them by mail and would like to know if they reached the Facility, please enclose a stamped, self-addressed postcard or envelope. We will consider all comments and materials received during the comment period.

Programmatic Environmental Assessment

In accordance with the National Environmental Policy Act of 1969 (section 102(2)(c)), as implemented by the Council on Environment Quality regulations (40 CFR parts 1500-1508) and Coast Guard Policy for Considering Environmental Impacts (COMDTINST M16475.1D), the Coast Guard has prepared a draft PEA to consider the environmental impacts of implementing STEP. The draft PEA identifies and examines those reasonable alternatives needed to effectively implement STEP. The draft PEA analyzes the no action alternative and two action alternatives that could fulfill the purpose and need of STEP. The draft PEA is a program document meant to provide a broad environmental review of a Federal agency's (Coast Guard) national program. In this case, the draft PEA provides a broad, general view of the potential environmental impacts that can be anticipated by implementing STEP. Specifically, the draft PEA considers potential effects to the natural and human environments including: Fish; marine mammals; invertebrates; microbes and plankton; submerged and emergent species; threatened and endangered species; essential fish habitats; and various socioeconomic resources. The draft PEA cannot foresee all possible specific operational sites or cumulative environmental impacts as a result of implementing any of the action alternatives. However, once specific operational sites and individual shipboard ballast water treatment technologies have been identified, these technologies will undergo a more specific environmental review (tiering). This environmental review of individual shipboard ballast water treatment technologies and specific operational sites will result in the issuance of either: (1) Categorical Exclusion; (2) Finding of No Significant Impact (FONSI) after an Environmental Assessment (EA); or (3) Environmental Impact Statement (EIS).

The purpose of this Notice of Availability is to inform the public, Federal, State, and local governments that the draft PEA is available for review and comment. Therefore, we are requesting your comments on environmental concerns you may have related to the draft PEA. This includes methodologies for use in the draft PEA or possible sources of data or information not included in the draft PEA. Your comments will be considered in preparing a Finding of No Significant Impact (FONSI) and final PEA.

Dated: May 11, 2004.
Howard L. Hime,
Acting Director of Standards, Marine Safety, Security and Environmental Protection.

[FR Doc. 04-14369 Filed 6-23-04; 8:45 am]

BILLING CODE 4910-15-P